DEPARTMENT OF HOMELAND SECURITY

Federal Emergency Management Agency

[Docket ID FEMA-2014-0002; Internal Agency Docket No. FEMA-B-1410]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 11, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1410, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

I. Watershed-based studies:

West Nishnabotna Watershed
Community | Community map repository address
Shelby County, Iowa, and Incorporated Areas
Maps Available for Inspection Online at: http://www.fema.gov/preliminaryfloodhazarddata
City of Defiance | City Hall, 206 Main Avenue, Defiance, IA 51527.
City of Earling | City Clerk Office, 117 Main Street, Earling, IA 51530.
City of Harlan | City Hall, 711 Durant Street, Harlan, IA 51537.
City of Irwin | City Hall, 504 Ann Street, Irwin, IA 51446.
City of Kirkman | Community Hall, 106 State Street, Kirkman, IA 51447.
City of Panama | City Hall, 111 Main Street, Panama, IA 51562.
City of Portsmouth | City Hall, 2nd Avenue and Main Street, Portsmouth, IA 51565.
Unincorporated Areas of Shelby County | Shelby County Engineer Office, 1411 Industrial Parkway, Harlan, IA 51537.

Lower Little Blue Watershed
Community | Community map repository address
Jefferson County, Nebraska, and Incorporated Areas
Maps Available for Inspection Online at: http://www.fema.gov/preliminaryfloodhazarddata
City of Fairbury | City Hall, 612 D Street, Fairbury, NE 68352.
Unincorporated Areas of Jefferson County | Planning and Zoning Department, 313 South K Street, Fairbury, NE 68352.
Village of Daykin | Community Center, 201 Mary Avenue, Daykin, NE 68338.
Village of Diller | Community Center, 503 Commercial Street, Diller, NE 68342.
Village of Endicott | Village Hall, 110 North Scribner Street, Endicott, NE 68350.
Village of Harbine | Harbine Village Hall, 315 Barry Street, Jansen, NE 68377.
Village of Jansen | Village Hall, 505 Broad Street, Jansen, NE 68377.
Village of Plymouth | Village Hall, 313 East Main Street, Plymouth, NE 68424.
Village of Reynolds | Village Hall, 121 Commercial Street, Reynolds, NE 68429.
Village of Steele City | Village Hall, 109 North Ida, Steele City, NE 68440.

II. Non-watershed-based studies:

Community | Community map repository address
Kane County, Illinois, and Incorporated Areas
Maps Available for Inspection Online at: http://www.fema.gov/preliminaryfloodhazarddata
Unincorporated Areas of Kane County | Kane County Government Center, Building A, Water Resources Department, 719 Batavia Avenue, Geneva, IL 60134.
Village of Burlington | Village Hall, 175 Water Street, Burlington, IL 60109.
Village of Hampshire | Village Hall, 234 South State Street, Hampshire, IL 60140.
Van Buren, Iowa, and Incorporated Areas
Maps Available for Inspection Online at: http://www.fema.gov/preliminaryfloodhazarddata
City of Keosauqua | City Hall, 804 1st Street, Keosauqua, IA 52565.
Van Buren County | Van Buren County Courthouse, 406 Dodge Street, Keosauqua, IA 52565.
Leavenworth, Kansas, and Incorporated Areas
Maps Available for Inspection Online at: http://www.fema.gov/preliminaryfloodhazarddata
City of Basehor | City Hall, 2620 North 155th Street, Basehor, KS 66007.
City of Easton | City Hall, 300 West Riley Street, Easton, KS 66020.
City of Lansing | City Hall Annex, 730 First Terrace, Suite 3, Lansing, KS 66043.
City of Leavenworth | City Hall, 100 North 5th Street, Leavenworth, KS 66048.
City of Linwood | City Hall, 306 Main Street, Linwood, KS 66052.
City of Tonganoxie | City Hall, 321 South Delaware Street, Tonganoxie, KS 66086.
Unincorporated Areas of Leavenworth County | County Courthouse, 300 Walnut Street, Leavenworth, KS 66048.

(Catalog of Federal Domestic Assistance No. 97.022, “Flood Insurance.”)

Dated: April 22, 2104.
Roy E. Wright,
Deputy Associate Administrator for Mitigation, Department of Homeland Security, Federal Emergency Management Agency.

[FR Doc. 2014-11006 Filed 5-12-14; 8:45 am]

BILLING CODE 9110-12-P